FEDERAL COMMUNICATIONS COMMISSION

[CC Docket No. 98-67 and CG Docket No. 03-123; DA 04-3921]

Comments Requested on Petition for Declaratory Ruling and Request for Clarification Filed Concerning Two-Line Captioned Telephone Voice Carry Over Service, a Form of Telecommunications Relay Service

AGENCY: Federal Communications Commission.

ACTION: Notice.

SUMMARY: This document seeks public comment on Ultratec, Inc., Sprint Corporation, and Hamilton Relay, Inc., Request for Clarification and the National Exchange Carrier Association, Inc., Petition for Declaratory Ruling concerning two-line captioned telephone voice carry over (VCO) service, a form of telecommunications relay service (TRS).

DATES: Interested parties may file comments in this proceeding on or before January 7, 2005. Reply comments may be filed on or before January 19, 2005.

ADDRESSES: Federal Communications Commission, 445 12th Street, SW., Washington, DC 20554.

FOR FURTHER INFORMATION CONTACT: Dana Jackson, Consumer & Governmental Affairs Bureau, Disability Rights Office at (202) 418-2247 (voice), (202) 418-7898 (TTY), or e-mail at Dana.Jackson@fcc.gov.

SUPPLEMENTARY INFORMATION: This is a summary of the Commission's Public Notice DA 04-3921, released December 16, 2004. On August 1, 2003, the Commission released a Declaratory Ruling, published at 68 FR 55898, September 29, 2003, in CC Docket No. 98-67; FCC 03-190. In the Declaratory Ruling, the Commission clarified that certain TRS mandatory minimum standards do not apply to captioned telephone VCO service. When filing comments, please reference CC Docket No. 98-67 and CG Docket No. 03-123. Comments may be filed using the Commission's Electronic Comment Filing System (ECFS) or by filing paper copies. See Electronic Filing of Documents in Rulemaking Proceedings, 63 FR 24121, May 1, 1998. Comments filed through the ECFS can be sent as an electronic file via the Internet to http://www.fcc.gov/e-file/ecfs.html. Generally, only one copy of an electronic submission must be filed. If multiple docket or rulemaking numbers appear in the caption of this proceeding, however, commenters must transmit one electronic copy of the comment to each docket or rulemaking number referenced in the caption. In completing the transmittal screen, commenters should include their full name, Postal Service mailing address, and the applicable docket or rulemaking number. Parties may also submit electronic comments by Internet e-mail. To get filing instructions, commenters should send an e-mail to ecfs@fcc.gov, and should include the following words in the body of the message, “get form <your e-mail address>.” A sample form and directions will be sent in reply. Parties who choose to file by paper must file an original and four copies of each filing. If more than one docket or rulemaking number appears in the caption of this proceeding, commenters must submit two additional copies for each additional docket or rulemaking number. Filings can be sent by hand or messenger delivery, by electronic media, by commercial overnight courier, or by first-class or overnight U.S. Postal Services mail (although we continue to experience delays in receiving U.S. Postal Service mail). The Commission's contractor, Natek, Inc., will receive hand-delivered or messenger-delivered paper filings or electronic media for the Commission's Secretary at 236 Massachusetts Avenue, NE., Suite 110, Washington, DC 20002. The filing hours at this location are 8 a.m. to 7 p.m. All hand deliveries must be held together with rubber bands or fasteners. Any envelopes must be disposed of before entering the building. Commercial and electronic media sent by overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission, 445 12th Street, SW., Room TW-B204 Washington, DC 20554. Parties who choose to file by paper should also submit their comments on diskette. These diskettes should be submitted, along with three paper copies, to: Dana Jackson, Consumer & Governmental Affairs Bureau, Disability Rights Office, 445 12th Street, SW., Room CY-A626, Washington, DC 20554. Such a submission should be on a 3.5 inch diskette formatted in an IBM compatible format using Word 97 or compatible software. The diskette should be accompanied by a cover letter and should be submitted in “read only” mode. The diskette should be clearly labeled with the commenter's name, proceeding (including the lead docket number in this case, CC Docket No. 98-67 and CG Docket No. 03-123, type of pleading (comment or reply comment), date of submission, and the name of the electronic file on the diskette. The label should also include the following phrase “Disk Copy—Not an Original.” Each diskette should contain only one party's pleadings, preferably in a single electronic file. In addition, commenters must send diskette copies to the Commission's copy contractor, Best Copy and Printing (BCPI), Inc., Portals II, 445 12th Street, SW., Room CY-B402, Washington, DC 20554. Pursuant to § 1.1206 of the Commission's rules, 47 CFR 1.1206, this proceeding will be conducted as a permit-but-disclose proceeding in which ex parte communications are subject to disclosure. The full text of this document and copies of any subsequently filed documents in this matter will be available for public inspection and copying during regular business hours at the FCC Reference Information Center, Portals II, 445 12th Street, SW., Room CY-A257, Washington, DC 20554. This document and copies of subsequently filed documents in this matters may also be purchased from the Commission's duplicating contract, BCPI, Inc., Portals II, 445 12th Street, SW., Room CY-B402, Washington, DC 20554. Customers may contact BCPI, Inc. at their Web site http://www.bcpiweb.com or call 1-800-378-3160. To request materials in accessible formats for people with disabilities (Braille, large print, electronic files, audio format), send an e-mail to fcc504@fcc.gov or call the Consumer & Governmental Affairs Bureau at (202) 418-0530 (voice), (202) 418-0432 (TTY). The Public Notice can also be downloaded in Word or Portable Document Format (PDF) at: http://www.fcc.gov/cgb/dro.

Synopsis

On December 7, 2004, Ultratec, Inc., Sprint Corporation, and Hamilton Relay, Inc., (“the Petitioners”) filed a Request for Clarification, (see Ultratec, Inc., Sprint Corporation, and Hamilton Relay, Inc., Request for Clarification, CC Docket No. 98-67 and CG Docket No. 03-123, filed December 7, 2004), seeking clarification that a two-line voice carryover (VCO) service called two-line captioned telephone VCO service is a form of telecommunications relay service (TRS) eligible for reimbursement from the Interstate TRS Fund. On December 10, 2004, the National Exchange Carrier Association, Inc. (“NECA”), (see National Exchange Carrier Association, Inc., Petition for Declaratory Ruling, CC Docket No. 98-67 and CG Docket No. 03-123, filed December 10, 2004), on behalf of the Interstate Telecommunications Relay Service Advisory Council (“the Council”), filed a Petition for Declaratory Ruling requesting that the Commission approve its proposed methodology for the jurisdictional allocation of costs for the provision of inbound two-line captioned telephone VCO service. NECA proposes that ten percent of the inbound two-line captioned telephone VCO service minutes would be allocated for payment from the Interstate TRS Fund. Captioned telephone service is an enhanced VCO service. See generally Telecommunications Relay Services, and Speech-to-Speech Services for Individuals with Hearing and Speech Disabilities, Declaratory Ruling, CC Docket No. 98-67, FCC 03-190, 68 FR 55898, September 29, 2003, finding that captioned telephone VCO service is a form of TRS eligible for compensation from the Interstate TRS Fund. VCO service is a type of TRS used by persons who have a hearing disability but are able to speak directly to the other end user. The communications assistant types the response back to the person with the hearing disability, but does not voice the conversation.

See 47 CFR 64.601(18). Captioned telephone VCO service permits the user to both listen to what is said over the telephone and simultaneously read captions of what the other person is saying.

Federal Communications Commission.
Jay Keithley,
Deputy Bureau Chief, Consumer & Governmental Affairs Bureau.

[FR Doc. 05-469 Filed 1-10-05; 8:45 am]

BILLING CODE 6712-01-P